DEPARTMENT OF ENERGY

Federal Energy Regulatory Commission

[Docket No. CP07-62-000]

AES Sparrows Point LNG, LCC; Notice of Technical Conference

April 20, 2007.

On Tuesday, May 8, 2007, at 9 a.m. (EDT), staff of the Office of Energy Projects will convene a cryogenic design and technical conference regarding the proposed Sparrows Point import terminal. The cryogenic conference will be held in the Homewood Suites at Baltimore/Washington International Airport. The hotel is located at 1181 Winterson Road, Linthicum, Maryland, 21090. For Homewood Suites details call 410-684-6100.

The conference will review the design of the LNG storage tanks and facility, instrumentation and controls, hazard detection and controls, spill containment, geotechnical topics, and other issues related to the operation of the proposed facility. Issues related to environmental impacts and LNG vessel transit are outside the scope of the conference.

In view of the nature of critical energy infrastructure information and security issues to be explored, the cryogenic conference will not be open to the public. Attendance at this conference will be limited to existing parties to the proceeding (anyone who has specifically requested to intervene as a party) and to representatives of interested Federal, State, and local agencies. Any person planning to attend the May 8th cryogenic conference must register by close of business on Monday, May 7, 2007. Registrations may be submitted either online at https://www.ferc.gov/whats-new/registration/cryo-conf-form.asp or by faxing a copy of the form (found at the referenced online link) to 202-208-0353. All attendees must sign a non-disclosure statement prior to entering the conference. For additional information regarding the cryogenic conference, please contact Kandilarya Jacaman at 202-502-6365.

Kimberly D. Bose,
Secretary.

[FR Doc. E7-7983 Filed 4-25-07; 8:45 am]

BILLING CODE 6717-01-P